DEPARTMENT OF TRANSPORTATION

Federal Transit Administration

Transfer of Federally Assisted Land or Facility

AGENCY: Federal Transit Administration, United States Department of Transportation.

ACTION: Notice of intent to transfer Federally assisted land or facility.

SUMMARY: Section 5334(h) of the Federal Transit Laws, as codified, 49 U.S.C. 5301, et seq., permits the Administrator of the Federal Transit Administration (FTA) to authorize a recipient of FTA funds to transfer land or a facility to a public body for any public purpose with no further obligation to the Federal Government if, among other things, no Federal agency is interested in acquiring the asset for Federal use. Accordingly, FTA is issuing this Notice to advise Federal agencies that the Northern Indiana Commuter Transportation District (NICTD) intends to transfer a parcel of property to the National Railroad Passenger Corporation (Amtrak), a corporation organized under the Rail Passenger Service Act, recodified 48 U.S.C. 24101 et seq., and the laws of the District of Columbia, and having its principal place of business at 60 Massachusetts Avenue, NE., Washington, DC 20002. Northern Indiana Commuter Transportation District currently owns the land. The property, which consists of 1.97 acres, is located at Amtrak South Bend Station, 2702 West Washington Street, South Bend, Indiana, 46628 and consists of approximately the following components: Station and Parking Lot Area of 1.13 acres, Undeveloped Land of 0.84 acres and Station Building of 5,890 square feet (the “Property”). NICTD wishes to transfer ownership of the Property to Amtrak for Amtrak's continued use as their passenger station in South Bend, Indiana. Amtrak has used the Property since 1975 and wishes to continue to use it for an Amtrak station. NICTD has not used it since 1992. Because Amtrak seeks to make major renovations to the station to make it more usable for their passengers and Amtrak is the only entity using the Property, NICTD seeks to relinquish ownership of the Property to Amtrak.

DATES: Effective Date: Any Federal agency interested in acquiring the facility must notify the FTA Region V Office of its interest by August 15, 2011.

ADDRESSES: Interested parties should notify the Regional Office by writing to Marisol R. Simon, Regional Administrator, Federal Transit Administration, 200 West Adams, Suite 320, Chicago, IL 60606.

FOR FURTHER INFORMATION CONTACT: Cecelia Comito, Regional Counsel, at 312/353-2789.

SUPPLEMENTARY INFORMATION:

Background

49 U.S.C. 5334(h) provides guidance on the transfer of capital assets. Specifically, if a recipient of FTA assistance decides an asset acquired under this chapter at least in part with that assistance is no longer needed for the purpose for which it was acquired, the Secretary of Transportation may authorize the recipient to transfer the asset to a local governmental authority to be used for a public purpose with no further obligation to the Government. 49 U.S.C. 5334(h)(l).

Determinations

The Secretary may authorize a transfer for a public purpose other than mass transportation only if the Secretary decides:

(A) The asset will remain in public use for at least 5 years after the date the asset is transferred;

(B) There is no purpose eligible for assistance under this chapter for which the asset should be used;

(C) The overall benefit of allowing the transfer is greater than the interest of the Government in liquidation and return of the financial interest of the Government in the asset, after considering fair market value and other factors; and

(D) Through an appropriate screening or survey process, that there is no interest in acquiring the asset for Government use if the asset is a facility or land.

Federal Interest in Acquiring Land or Facility

This document implements the requirements of 49 U.S.C. Section 5334(h)(l)(D) of the Federal Transit Laws. Accordingly, FTA hereby provides notice of the availability of the land or facility further described below. Any Federal agency interested in acquiring the affected facility should promptly notify the FTA.

If no Federal agency is interested in acquiring the existing facility, FTA will make certain that the other requirements specified in 49 U.S.C. Section 5334(h)(1)(A) through (C) are met before permitting the asset to be transferred.

The property, which consists of approximately 1.97 acres, is located at Amtrak South Bend Station, 2702 West Washington Street, South Bend, Indiana, 46628 and consists of approximately the following components: Station and Parking Lot Area of 1.13 acres, Undeveloped Land of 0.84 acres and Station Building of 5,890 square feet (the “Property”).

The Northern Indiana Commuter Transportation District (NICTD) requests permission to transfer title to approximately 1.97 acres of property, with a parking lot and one (1) Building approximately 5900 square feet in South Bend, Indiana, to the National Railroad Passenger Corporation (Amtrak) free of charge for continued use as the Amtrak Rail Passenger Station for South Bend. This property was acquired by NICTD in 1989 through NICTD's purchase of the passenger assets of the bankrupt Chicago, South Shore and South Bend Railroad; the purchase was financed, in part, through FTA project IN-03-0061. At the time of the purchase of the passenger assets, this property served as NICTD's South Bend Station. This property is no longer needed by NICTD, as NICTD moved its South Bend Station to the South Bend Regional Airport in November 1992. The property has also been used by Amtrak as its South Bend Station since 1975, and since 1992, NICTD has leased this property to Amtrak for a nominal fee. Amtrak now finds that this station is aging and requires extensive rebuilding to remain a viable station and Amtrak wishes to stay in this location. However, since NICTD no longer uses this station and has determined that it will never use it again, it is in the best interest of all parties to transfer title of this property to Amtrak.

This property is located at 2702 West Washington Street in South Bend, Indiana, 46628, and is bounded on the north by Washington Street, on the east by Meade Street, on the south by the Norfolk Southern Railway tracks and on the west by the SouthShore Freight Railroad's Bendix Yard. On the property is an asphalt parking lot with a capacity for approximately thirty (30) automobiles. The building is a one story, cement block building constructed in 1970 that has a waiting room, a ticket office and an enclosed, secure area to store checked baggage.

Issued on June 24, 2011.
Marisol Simón,
Regional Administrator.

[FR Doc. 2011-18783 Filed 7-25-11; 8:45 am]

BILLING CODE P